DEPARTMENT OF ENERGY

10 CFR Part 431

[Docket No. EERE-2014-BT-STD-0051]

RIN 1904-AD40

Energy Conservation Program for Certain Commercial and Industrial Equipment: Gas Compressors

AGENCY: Office of Energy Efficiency and Renewable Energy, Department of Energy.

ACTION: Notice of public meeting.

SUMMARY: The U.S. Department of Energy (DOE) is considering establishing energy conservation standards for commercial and industrial compressors. To date, DOE has considered energy conservation standards only for compressors intended to compress air, rather than natural gas. As a result, DOE's current efforts have focused on air compressors. However, DOE is also aware that compressors used to compress natural gas may also use a substantial amount of energy. To improve its understanding of both the technology and market of natural gas compressors, DOE will hold a public meeting to discuss and receive further comments and supporting data about the characteristics and energy use of this equipment as described in the request for information (RFI) published by DOE on August 5, 2014 (79 FR 45377).

DOE may also opt to publish supplementary information prior to the meeting for stakeholder review. If so, DOE would announce the arrival of that information by publishing a notice of data availability in the Federal Register.

DATES: Meeting: DOE will hold a public meeting on December 17, 2014, from 9:00 a.m. to 1:30 p.m. in Washington, DC. In addition, DOE plans to broadcast the public meeting via webinar. You may attend the public meeting either in person or via webinar.

Comments: DOE will accept written comments, data, and other related information about the RFI before and after the public meeting, but not later than January 12, 2015. Interested parties are encouraged to submit comments electronically.

Any person requesting to present an oral statement for the record must notify DOE prior to 4:00 p.m., December 3, 2014, and provide to DOE an electronic copy of the statement with the presenter's name and, if appropriate, the organization the presenter represents, prior to 4:00 p.m., December 10, 2014.

ADDRESSES: A copy of the RFI is available at: http://www.regulations.gov/#!documentDetail;D=EERE-2013-BT-STD-0040-0023.

The public meeting will be held at the U.S. Department of Energy, Forrestal Building, Room 4A-104, 1000 Independence Avenue SW., Washington, DC 20585-0121.

Registration information, participant instructions, and also information about the capabilities available to webinar participants will be published in advance on DOE's Web site at: http://www1.eere.energy.gov/buildings/appliance_standards/rulemaking.aspx/ruleid/58.

Webinar participants are responsible for ensuring their systems are compatible with the webinar software.

Attendance: Whereas the meeting is generally open to the public, please note that foreign nationals participating in the public meeting are subject to advance security screening procedures which require advance notice prior to attendance at the public meeting. If a foreign national wishes to participate in the public meeting, please inform DOE of this fact as soon as possible by contacting Ms. Regina Washington at (202) 586-1214 or by email: foreignvisit@ee.doe.gov so that the necessary procedures can be completed.

Due to the REAL ID Act implemented by the Department of Homeland Security (DHS), there have been recent changes regarding ID requirements for individuals wishing to enter Federal buildings from specific states and U.S. territories. Driver's licenses from the following states or territory will not be accepted for building entry and one of the alternate forms of ID listed below will be required. DHS has determined that regular driver's licenses (and ID cards) from the following jurisdictions are not acceptable for entry into DOE facilities: Alaska, American Samoa, Arizona, Louisiana, Maine, Massachusetts, Minnesota, New York, Oklahoma, and Washington. Acceptable alternate forms of Photo-ID include: U.S. Passport or Passport Card; an Enhanced Driver's License or Enhanced ID-Card issued by the states of Minnesota, New York or Washington (Enhanced licenses issued by these states are clearly marked Enhanced or Enhanced Driver's License); a military ID or other Federal government issued Photo-ID card.

Any person bringing a personal computer into DOE spaces is required to obtain a property pass from DOE Security and should allow an extra 45 minutes for entry processing.

Comments may be submitted by any of the following methods:

• Federal eRulemaking Portal: www.regulations.gov Follow the instructions for submitting comments.

• Email: GasCompressors2014STD0051@ee.doe.gov. Include docket number EERE- 2014-BT-STD-0051 and/or RIN 1904-AD40 in the subject line of the message. Submit electronic comments in WordPerfect, Microsoft Word, portable document format (PDF), or American Standard Code for Information Interchange (ASCII) file format, and avoid the use of special characters or any form of encryption.

• Mail: Ms. Brenda Edwards, U.S. Department of Energy, Building Technologies Office, Mailstop EE-5B, 1000 Independence Avenue SW., Washington, DC 20585-0121. Telephone: (202) 586-2945. If possible, please submit all items on a compact disc (CD), in which case it is not necessary to include printed copies.

• Hand Delivery/Courier: Ms. Brenda Edwards, U.S. Department of Energy, Building Technologies Office, 6th Floor, 950 L'Enfant Plaza SW., Washington, DC 20024. Telephone: (202) 586-2945. If possible, please submit all items on a CD, in which case it is not necessary to include printed copies.

Instructions: All submissions received must include the agency name and docket number or RIN for this document. No telefacsimilies (faxes) will be accepted.

Docket: The docket is available for review at http://www.regulations.gov, and will include Federal Register notices, framework document, public meeting attendee lists and transcripts, comments, and other supporting documents/materials throughout the rulemaking process. The regulations.gov Web page contains simple instructions on how to access all documents, including public comments, in the docket. The docket can be accessed by searching for docket number EERE-2014-BT-STD-0051 on the regulations.gov Web site. All documents in the docket are listed in the www.regulations.gov index. However, not all documents listed in the index may be publicly available, such as information that is exempt from public disclosure.

FOR FURTHER INFORMATION CONTACT: Mr. James Raba, U.S. Department of Energy, Office of Energy Efficiency and Renewable Energy, Building Technologies, EE-5B, 1000 Independence Avenue SW., Washington, DC 20585-0121. Telephone: (202) 586-8654. Email: compressors@ee.doe.gov.

Mr. Michael Kido, U.S. Department of Energy, Office of the General Counsel, GC-33, 1000 Independence Avenue SW., Washington, DC 20585. Telephone: (202) 586-8145. Email: Michael.Kido@hq.doe.gov.

Ms. Johanna Hariharan, U.S. Department of Energy, Office of the General Counsel, GC-33, 1000 Independence Avenue SW., Washington, DC 20585. Telephone: (202) 287-6307. Email: Johanna.Hariharan@hq.doe.gov.

For information on how to submit or review public comments and on how to participate in the public meeting, contact Ms. Brenda Edwards, U.S. Department of Energy, Office of Energy Efficiency and Renewable Energy, Building Technologies Office, EE-5B, 1000 Independence Avenue SW., Washington, DC 20585-0121. Telephone (202) 586-2945. Email: Brenda.Edwards@ee.doe.gov.

SUPPLEMENTARY INFORMATION: Title III of the Energy Policy and Conservation Act, 42 U.S.C. 6291, et seq., (EPCA) sets forth a variety of provisions designed to improve the energy efficiency of products and commercial equipment. (All references to EPCA refer to the statute as amended through the American Energy Manufacturing Technical Corrections Act (AEMTCA 2012), Pub. L. 112-210 (December 18, 2012)). Part C of Title III (42 U.S.C. 6311-6317), which was subsequently re-designated as Part A-1 for editorial reasons, established an energy conservation program for certain industrial equipment, including compressors, the subject of today's notice. (42 U.S.C. 6311(2)(B)(i)) Unlike some other types of equipment included in EPCA, the term “compressors” is undefined.

Section 341 of EPCA, 42 U.S.C. 6312, provides a general statement of purpose to improve the efficiency of a variety of industrial equipment to conserve the energy resources of the Nation and permits the Secretary of Energy to classify certain equipment as covered equipment if a determination is made by rulemaking that doing so is necessary to carry out the purposes of Part A-1 of EPCA. Consistent with this process, DOE is currently considering whether to regulate the efficiency of a specific group of compressors—commercial and industrial compressors. 77 FR 76972 (December 31, 2012). DOE received comments from interested parties, which are available in docket number EERE-2013-BT-STD-0040. The comments were considered in developing a Framework Document to explain the relevant issues, analyses, and processes it anticipates using when considering new energy conservation standards for commercial and industrial compressors. DOE issued that document and conducted a public meeting to discuss its contents earlier this year. 79 FR 6839 (February 5, 2014). For more information, see http://www1.eere.energy.gov/buildings/appliance_standards/rulemaking.aspx/ruleid/58.

Because the term “compressors” is undefined by EPCA, DOE considered a variety of definitions for this term to help ensure a reasonable level of clarity with respect to the type of equipment that might be regulated. In its ongoing proceeding, DOE offered for comment the following definition for “commercial and industrial compressors” to clarify the coverage of any potential test procedure or energy conservation standard:

Compressor: “A compressor is an electric-powered device that takes in air or gas at atmospheric pressure and delivers the air or gas at a higher pressure. Compressors typically have a specific ratio, the ratio of delivery pressure to supply pressure, greater than 1.20.”

After further evaluating this definition and considering the comments it received, DOE revisited this definition and offered a revised version. That version, which is based on International Organization for Standardization (ISO) Technical Report (TR) 12942, provides a different definition of the term “compressor” from DOE's initial approach. (ISO TR 12942 provides a means to classify modern compressor types along with definitions and related terms that can be utilized in technical and contractual specifications such as a manufacturer's literature and industrial statistics.) DOE offered the following revised definition for public comment:

Compressor: a machine or apparatus converting different types of energy into the potential energy of gas pressure for displacement and compression of gaseous media to any higher pressure values above atmospheric pressure with pressure-increase ratios exceeding 1.1.¹

¹ International Organization for Standardization (ISO), ISO 12942, Compressors—Classification— Complementary information to ISO 5390, International Organization for Standardization (ISO), 2012.

DOE is continuing to consider revisions to this definition, however, due at least in part to submitted comments in which some parties commented that the specified ratio should be different to avoid overlapping with what the compressor industry generally treats as “blowers,” equipment for which DOE may also establish standards. See 78 FR 7306 (February 1, 2013) (announcing DOE's issuance of a framework document related to the potential setting of energy conservation standards for industrial fans and blowers). Also see http://www1.eere.energy.gov/buildings/appliance_standards/rulemaking.aspx/ruleid/25.

While DOE's focus has centered primarily on those compressors that are intended to compress air, compressors are used in a wide variety of applications and may be used to compress different types of gases. DOE is aware that compressors intended to compress other gases such as natural gas (i.e., gas compressors) may, both collectively and individually, use a substantial amount of energy, as such compressors are often very large. An important application of gas compressors is the pipeline transport of natural gas. The drivers for such compressors can be natural gas turbines (particularly since gas is an easily accessible fuel out in the field), steam turbines, internal combustion engines, or electric motors. Recent data provided by the Energy Information Administration (EIA) indicate that the annual amount of natural gas used to transport natural gas through the pipeline system was about 0.7 quadrillion Btu. In addition to the pipeline transport of natural gas, compressors are used in the production and processing of natural gas, which is accounted for in the 1.4 quadrillion Btus of natural gas reported by EIA as “lease and plant fuel.” ² As such, DOE is now considering the possibility of setting energy efficiency standards for natural gas compressors, in addition to efficiency standards for commercial and industrial air compressors.

² Energy Information Administration, Annual Energy Outlook 2014, Table 2.

To inform its decision making regarding natural gas compressors DOE will hold a public meeting to discuss and receive further comments and supporting data about the characteristics and energy use of this equipment as described in the RFI. (79 FR 45377)

Issued in Washington, DC, on November 20, 2014.
Kathleen B. Hogan,
Deputy Assistant Secretary, Energy Efficiency and Renewable Energy.

[FR Doc. 2014-28126 Filed 11-26-14; 8:45 am]

BILLING CODE 6450-01-P